DEPARTMENT OF ENERGY

Federal Energy Regulatory Commission

[Project No. 2292-153]

Notice of Application Accepted for Filing and Soliciting Comments, Motions To Intervene, and Protests

Take notice that the following hydroelectric application has been filed with the Commission and is available for public inspection:

a. Type of Application: Request for approval of a Drawdown Plan and temporary variance of reservoir elevation and run-of-river requirements.

b. Project No.: 2292-153.

c. Date Filed: February 17, 2021 and supplemented March 12 and 26, 2021.

d. Applicant: Domtar Wisconsin Corporation.

e. Name of Project: Nekoosa Dam Hydroelectric Project.

f. Location: The project is located on the Wisconsin River in Wood County, Wisconsin.

g. Filed Pursuant to: Federal Power Act, 16 U.S.C. 791 (a)-825(r).

h. Applicant Contact: Mr. David S. Orcutt, Environmental Manager, Domtar Wisconsin Corporation, 301 Point Basse Ave., Nekoosa, WI 54457-1422, Phone: (715) 886-7358, Email: david.orcutt@domtar.com.

i. FERC Contact: Anumzziatta Purchiaroni, (202)502-6191, anumzziatta.purchiaroni@ferc.gov.

j. Deadline for filing comments, motions to intervene, and protests: 15 days from the date of this notice. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2292-029. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a resource agency, they must also serve a copy of the document on that resource agency.

k. Description of Request: The licensee requests Commission approval of a Drawdown Plan and a temporary variance of the reservoir elevation and run-of-river requirements for the Nekoosa Hydroelectric Project No. 2292. The licensee is requesting the drawdown to perform concrete repairs on the Nekoosa Dam intake structure and overflow spillway, as well as improvements to the spillway flashboard sections. The licensee proposes to lower the reservoir 941.3 feet NGVD, which correlates to 5.0 feet below the minimum elevation of 946.3 feet NGVD required by the project license. The licensee plans to begin the drawdown by June 8 and be completed by June 14, 2021. The licensee plans to start the refilling of the reservoir as soon as the activities requiring the drawdown are completed, which would be approximately 11 weeks. The licensee will restrict the drawdown to a maximum rate of 12 inches per day. During the refill of the reservoir, the licensee would release less than 1,000 cubic feet per second of water flow through the dam.

l. Locations of the Applications: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Motions to Intervene or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 4.34(b) and 385.2010.

Dated: March 30, 2021.
Kimberly D. Bose,
Secretary.

[FR Doc. 2021-06985 Filed 4-5-21; 8:45 am]

BILLING CODE 6717-01-P